DEPARTMENT OF TRANSPORTATION

Federal Aviation Administration

Federal Aviation Administration

14 CFR Part 39

[Docket No. FAA-2007-28245; Directorate Identifier 2007-CE-047-AD]

RIN 2120-AA64

Airworthiness Directives; Cirrus Design Corporation Models SR20 and SR22 Airplanes

AGENCY: Federal Aviation Administration (FAA), Department of Transportation (DOT).

ACTION: Notice of proposed rulemaking (NPRM).

SUMMARY: We propose to adopt a new airworthiness directive (AD) for certain Cirrus Design Corporation (CDC) Models SR20 and SR22 airplanes. This proposed AD would require you to replace the cabin door rod ends at the upper and lower hinges of the cabin door with newly designed rod ends. This proposed AD results from two known occurrences of in-flight cabin door separation (one total separation and one retained by the door strut). The rod ends, a component of the door hinges, may fail and result in a door separation from the airplane while in flight. We are proposing this AD to prevent in-flight failure of the cabin door, which could result in door separation from the airplane.

DATES: We must receive comments on this proposed AD by August 13, 2007.

ADDRESSES: Use one of the following addresses to comment on this proposed AD:

• DOT Docket Web site: Go to http://dms.dot.gov and follow the instructions for sending your comments electronically.

• Mail: U.S. Department of Transportation, Docket Operations, M-30, West Building Ground Floor, Room W12-140, 1200 New Jersey Avenue, SE., Washington, DC 20590.

• Fax: (202) 493-2251.

• Hand Delivery: U.S. Department of Transportation, Docket Operations, M-30, West Building Ground Floor, Room W12-140, 1200 New Jersey Avenue, SE., Washington, DC 20590, between 9 a.m. and 5 p.m., Monday through Friday, except Federal holidays.

• Federal eRulemaking Portal: Go to http://www.regulations.gov. Follow the instructions for submitting comments.

For service information identified in this proposed AD, contact Cirrus Design Corporation, 4515 Taylor Circle, Duluth, Minnesota 55811; telephone: (218) 727-2737; Internet address: http://www.cirrusdesign.com.

FOR FURTHER INFORMATION CONTACT: Wess Rouse, Aerospace Engineer, 2300 East Devon Avenue, Room 107, Des Plaines, Illinois 60018; telephone: (847) 294-8113; fax: (847) 297-7834.

SUPPLEMENTARY INFORMATION:

Comments Invited

We invite you to send any written relevant data, views, or arguments regarding this proposed AD. Send your comments to an address listed under the ADDRESSES section. Include the docket number, “FAA-2007-28245; Directorate Identifier 2007-CE-047-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

We received notification by CDC of a door that separated from a CDC SR22 airplane while in-flight. During descent for landing, the door separated from the airplane and struck the tail of the airplane. There have been many occurrences of broken or bent lower door hinges on CDC Models SR20 and SR22 airplanes, most discovered before flight.

This condition, if not corrected, could result in door separation from the airplane.

Relevant Service Information

We have reviewed Cirrus Design Corporation Service Bulletin SB 2X-52-07, dated May 3, 2007.

The service information describes procedures for the installation of newly designed rod ends for the cabin door.

FAA's Determination and Requirements of the Proposed AD

We are proposing this AD because we evaluated all information and determined the unsafe condition described previously is likely to exist or develop on other products of the same type design. This proposed AD would require you to replace the cabin door rod ends at the upper and lower hinges of the cabin door with newly designed rod ends.

Costs of Compliance

We estimate that this proposed AD would affect 1,562 airplanes in the U.S. registry.

We estimate the following costs to do the proposed replacement of the cabin door rod ends:

Labor cost | Parts cost | Total cost per airplane | Total cost on U.S. operators
2.5 work-hours × $80 per hour = $200 | $60 | $260 | $406,120

CDC will provide warranty credit as stated in Cirrus Design Corporation Service Bulletin SB 2X-52-07, dated May 3, 2007.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cirrus Design Corporation: Docket No. FAA-2007-28245; Directorate Identifier 2007-CE-047-AD.

Comments Due Date

(a) We must receive comments on this airworthiness directive (AD) action by August 13, 2007.

Affected ADs

(b) None.

Applicability

(c) This AD applies to the following airplane models and serial numbers that are certificated in any category:

Models | Serial numbers
SR20 | 1423 through 1796.
SR22 | 0795 and 0820 through 2499.

Unsafe Condition

(d) This AD results from two known occurrences of in-flight cabin door separation (one total separation and one retained by the door strut). We are proposing this AD to prevent in-flight failure of the cabin door, which could result in door separation from the airplane.

Compliance

(e) To address this problem, you must do the following, unless already done:

Actions | Compliance | Procedures
(1) Remove the old cabin door rod ends (both doors) and replace with the new designed cabin door rod ends, part number 21845-001 | Within the next 30 hours time-in-service (TIS) after the effective date of this AD or within 90 days after the effective date of this AD, whichever occurs first | Follow Cirrus Design Corporation Service Bulletin SB 2X-52-07, dated May 3, 2007.
(2) Inspect cabin door fit-up and latch for proper fit, adjusting as necessary | Within the next 30 hours time-in-service (TIS) after the effective date of this AD or within 90 days after the effective date of this AD, whichever occurs first | Follow Cirrus Design Corporation Service Bulletin SB 2X-52-07, dated May 3, 2007.

Alternative Methods of Compliance (AMOCs)

(f) The Manager, Chicago Aircraft Certification Office, FAA, has the authority to approve AMOCs for this AD, if requested using the procedures found in 14 CFR 39.19. Send information to ATTN: Wess Rouse, Aerospace Engineer, FAA, 2300 East Devon Avenue, Room 107, Des Plaines, Illinois 60018; telephone: (847) 294-8113; fax: (847) 297-7834. Before using any approved AMOC on any airplane to which the AMOC applies, notify your appropriate principal inspector (PI) in the FAA Flight Standards District Office (FSDO), or lacking a PI, your local FSDO.

Related Information

(g) To get copies of the service information referenced in this AD, contact Cirrus Design Corporation, 4515 Taylor Circle, Duluth, Minnesota 55811; telephone: (218) 727-2737; Internet address: http://www.cirrusdesign.com. To view the AD docket, go to the U.S. Department of Transportation, Docket Operations, M-30, West Building Ground Floor, Room W12-140, 1200 New Jersey Avenue, SE., Washington, DC 20590, or on the Internet at http://dms.dot.gov. The docket number is Docket No. FAA-2007-28245; Directorate Identifier 2007-CE-047-AD.

Issued in Kansas City, Missouri, on June 6, 2007.
James E. Jackson,
Acting Manager, Small Airplane Directorate, Aircraft Certification Service.

[FR Doc. E7-11386 Filed 6-12-07; 8:45 am]

BILLING CODE 4910-13-P